DEPARTMENT OF DEFENSE

Office of the Secretary

Meeting of the National Commission on the Structure of the Air Force

AGENCY: Director of Administration and Management, DoD.

ACTION: Notice of Advisory Committee Meeting.

SUMMARY: The Department of Defense (DoD) announces that the following Federal advisory committee meeting of the National Commission on the Structure of the Air Force (“the Commission”) will take place.

DATES: Date of Open Meeting, including Hearing: Thursday, January 9, 2014, from 11:30 a.m. to 5:00 p.m. Registration will begin at 11:00 a.m. Please also see instructions to register for oral public comments in advance.

ADDRESSES: 2521 South Clark Street Suite 200, Crystal City, VA 22202.

FOR FURTHER INFORMATION CONTACT: Mrs. Marcia Moore, Designated Federal Officer, National Commission on the Structure of the Air Force, 1950 Defense Pentagon, Room 3A874, Washington, DC 20301-1950. Email: dfoafstrucomm@osd.mil. Desk (703) 545-9113. Facsimile (703) 692-5625.

SUPPLEMENTARY INFORMATION: Due to difficulties finalizing the meeting agenda for the scheduled meeting of January 9, 2014, of the National Commission on the Structure of the Air Force the requirements of 41 CFR 102-3.150(a) were not met. Accordingly, the Advisory Committee Management Officer for the Department of Defense, pursuant to 41 CFR 102-3.150(b), waives the 15-calendar day notification requirement.

This meeting is being held under the provisions of the Federal Advisory Committee Act (FACA) of 1972 (5 U.S.C., Appendix, as amended), the Government in the Sunshine Act of 1976 (5 U.S.C. 552b, as amended), and 41 CFR 102-3.150.

Purpose of Meeting: The members of the Commission will hear testimony from Deborah Lee James, Secretary of the U.S. Air Force and oral comments from the public.

Agenda: Deborah Lee James, Secretary of the U.S. Air Force will testify from 11:30 a.m.—1:00 p.m. The public is invited to give oral comments to the Commission on the following topics that have been addressed in the Commission's draft report. The Chairman will introduce each topic and subtopic. Individual members of the public will then comment on the topic.

1:00 p.m.—The Uncertain Future Strategic Environment

1. The role of airpower in the post-Afghanistan national security situations likely to be encountered by the Air Force capabilities and Airmen and the implications for the structure of the Air Force.

2. Emerging demands on Air Force capabilities such as, intelligence, surveillance and reconnaissance, remotely piloted aircraft, space, cyberspace, special operations, and building partnership capacity. Further, implications for the structure of the Air Force from the growing threat involving simultaneous attacks on the Homeland.

3. Implications of rising demands and expectations for missions such as Homeland Defense, Homeland Security, and Defense Support to Civil Authorities.

4. Continuing growth of demand on traditional Air Force core functions including: Air Superiority, Air Mobility, Global Precision Attack, Nuclear Deterrence Operations, Command and Control, Personnel Recovery, Agile Combat Support, Training and Education, and other specific mission sets such as security forces, civil engineering and science and technology.

1:40 p.m.—The Inexorable Resource Trend

1. Projections and assumptions about future resource levels that will be available to organize, train and equip the Air Force; how the Budget Control Act and Sequestration legislation will affect Total Obligational Authority and associated planning, programming and budgeting flexibility.

2. Impact of strategic choices on Air Force capabilities and force structure options derived from the selection of national priorities among modernization, technology, recapitalization, readiness, capacity and force structure; various approaches on how to calculate and apply cost methods and data to questions of force structure.

2:30 p.m.—Enduring Roles of the Components

1. Address the root causes of legislative and bureaucratic development of the force structure issues that led to the creation of the Commission in 2013; how these issues are rooted in the American militia heritage and the arc of Air Force history since 1947.

2. Accounting for the socio-cultural dimensions of force structure issues ranging from the fundamental relationship of the American people to their military and to sub-cultures within the Air Force.

3:10 p.m.—Shaping and Sizing the Force

1. How to institutionalize the shift in the fundamental role of the reserve components from a strategic reserve to an operational reserve with associated expectations.

2. Force mix options to assess in terms of relative weight of force structure in each of the components.

3. Whether to recommend the Department of Defense invert the force sizing planning paradigm from sizing to meet the expected wartime surge to an approach that begins with the steady state requirement then resource the components to provide the nation with a meaningful surge capacity for the strategy.

4. Considerations for measuring and assessing active, reserve, and Air National Guard effectiveness, including both cost-effectiveness and mission effectiveness.

3:50 p.m.—Managing the Force

Weigh alternative approaches to how the nation should direct, control and guide the active, reserve, and Air National Guard to include:

1. Whether, and if so how, to simplify Title 10, Title 32 and other governing legislative authorities;

2. How to re-balance the current mix of Active, Reserve and Air National Guard components into and across any and all mission function;

3. Whether, and if so how, to reorganize the Air Force Active, Reserve and Air National Guard into less than 3 components;

4. Can the Air Force move to a periodic readiness schedule without creating a “hollow force”;

5. Does component “ownership” of aircraft matter anymore and how can the Associate Unit paradigm be adapted to the future;

6. Approaching future force integration of new systems capabilities by means of a Concurrent Proportional resourcing method across the components to replace today's priority of equipping the Active Component first;

7. Accelerating the adoption of a “Continuum of Service” model to facilitate the ability of Airmen to move from any component into another at multiple points in their career path without prejudice:

a. Enhancing the total force through equalized opportunities across the components for professional and technical education and shared experiences;

b. Recognizing in promotion and selection processes differing but equivalent ends, ways, and means of professional development.

8. Fundamental shift in policy goals for “Deploy-to-Dwell,” “Mobilization-to-Dwell,” and associated metrics for the post-Afghanistan period, as well as how deployment credit will be accounted;

9. Reconsider the nation's needs for Overseas Basing and the capacity of CONUS infrastructure afforded by investments in Reserve and Guard basing capacities available to the Total Force.

Meeting Accessibility: The building is fully handicap accessible. Visitors must show a picture I.D. and complete a security screening. Public parking is available within walking distance. Media and other organizations who wish to use video or camera technology during the meeting must obtain permission prior to the meeting.

Written Comments: Pursuant to 41 CFR 102-3.105(j) and 102-3.140 and section 10(a)(3) of the FACA, the public or interested organizations may submit written comments to the Commission in response to the stated agenda of the open meeting or the Commission's mission. The Designated Federal Officer (DFO) will review all submitted written statements. Written comments should be submitted to Mrs. Marcia Moore, DFO, via facsimile or electronic mail, the preferred modes of submission. Each page of the comment must include the author's name, title or affiliation, address, and daytime phone number. All contact information may be found in the FOR FURTHER INFORMATION CONTACT section. While written comments are forwarded to the Commissioners upon receipt, note that all written comments on the Commission's charge, as described in the Background section, must be received by 5:00 p.m. on January 6, 2014 to be considered by the Commissioners for the final report. This deadline for emailed and faxed comments has been extended from December 13, 2013. The postmark deadline to mail comments was November 8, 2013.

Oral Comments: Individuals who wish to make an oral comment during the meeting on January 9, 2014, on the specific topics described in this notice, are strongly encouraged to pre-register for the meeting by 5:00 p.m. on January 6, 2014. Walk-in registrations will be accepted by 11:30 a.m. on January 9, 2014. Oral commenters will be allotted no less than 5 minutes each for their presentations. The actual time allotment will be given on the day of the meeting. Registration for oral comments must include a summary of points to be made and the topic to be addressed on at least one of the following, as described in this notice:

1. The Uncertain Future Strategic Environment

2. The Inexorable Resource Trend

3. Enduring Roles of the Components

4. Shaping and Sizing the Force

5. Managing the Force

Registration: Individuals who wish to attend the public hearing and meeting on Thursday, January 9, 2014 are encouraged to register for the event in advance with the Designated Federal Officer, using the electronic mail and facsimile contact information found in the FOR FURTHER INFORMATION CONTACT section. The communication should include the registrant's full name, title, affiliation or employer, email address, and daytime phone number. If applicable, include written comments and/or a request to speak on one of the topics and a summary of your comments. Registrations and written comments must be typed.

Background: The National Commission on the Structure of the Air Force was established by the National Defense Authorization Act for Fiscal Year 2013 (Pub. L. 112-239). The Department of Defense sponsor for the Commission is the Director of Administration and Management, Office of the Secretary of Defense. The Commission is tasked to submit a report, containing a comprehensive study and recommendations, by February 1, 2014 to the President of the United States and the Congressional defense committees. The report will contain a detailed statement of the findings and conclusions of the Commission, together with its recommendations for such legislation and administrative actions it may consider appropriate in light of the results of the study. The comprehensive study of the structure of the U.S. Air Force will determine whether, and how, the structure should be modified to best fulfill current and anticipated mission requirements for the U.S. Air Force in a manner consistent with available resources.

Dated: December 23, 2013.
Aaron Siegel,
Alternate OSD Federal Register Liaison Officer, Department of Defense.

[FR Doc. 2013-31003 Filed 12-26-13; 8:45 am]

BILLING CODE 5001-06-P